DEPARTMENT OF ENERGY

Federal Energy Regulatory Commission

[Docket No. RD14-5-000]

Proposed Agency Information Collection

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection in Docket No. RD14-5-000 to the Office of Management and Budget (OMB) for review of the information collection requirements. Any interested person may file comments directly with OMB and should address a copy of those comments to the Commission as explained below. The Commission issued a Notice in the Federal Register (79 FR 27588, 5/14/2014) requesting public comments. FERC received no comments in response to that notice and has made this notation in its submission to OMB.

DATES: Comments on the collection of information are due by September 24, 2014.

ADDRESSES: Comments filed with OMB, identified by the docket number, should be sent via email to the Office of Information and Regulatory Affairs: oira_submission@omb.gov. Attention: Federal Energy Regulatory Commission Desk Officer. The Desk Officer may also be reached via telephone at 202-395-4718.

A copy of the comments should also be sent to the Federal Energy Regulatory Commission, identified by the Docket No. RD14-5-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by email at DataClearance@FERC.gov, by telephone at (202) 502-8663, and by fax at (202) 273-0873.

SUPPLEMENTARY INFORMATION: The proposed information collection in Docket No. RD14-5-000 relates to the proposed Reliability Standards MOD-032-1 (Data for Power System Modeling and Analysis) and MOD-033-1 (Steady-State and Dynamics System Model Validation), developed by the North American Electric Reliability Corporation (NERC), and submitted to the Commission for approval. NERC's petition related to the proposed Reliability Standards MOD-032-1 and MOD-033-1 was approved on May 1, 2014, pursuant to the relevant authority delegated to the Director, Office of Electric Reliability under 18 CFR 375.303.

Reliability Standard MOD-032-1 consolidates NERC-approved Reliability Standards MOD-011-0, MOD-013-1 and MOD-014-0, as well as, Commission approved Reliability Standards MOD-010-0 and MOD-012-0, into one standard.¹ Reliability Standard MOD-032-1 requires data submission by applicable data owners to their respective transmission planners and planning coordinators to support the interconnection model building process in their interconnection. Reliability Standard MOD-033-1 is a new standard that requires each planning coordinator to implement a documented process to perform model validation within its planning area. The purpose of the Reliability Standards is to establish comprehensive modeling data requirements, reporting procedures, and validation requirements necessary to accurately model the interconnected transmission system for the near-term transmission planning horizon and the long-term transmission planning horizon.

¹ In Order No. 693, the Commission approved Reliability Standards MOD-010 and MOD-012. Regarding Reliability Standards MOD-011, MOD-013, MOD-014, and MOD-015, the Commission in Order No. 693 did not approve or remand the standards, pending the receipt of additional information. Mandatory Reliability Standards for the Bulk-Power System, Order No. 693, 72 FR 16416 (Apr. 4, 2007), at PP 1131-1222, order on reh'g, Order No. 693-A, 120 FERC ¶ 61,053 (2007).

Burden Statement: The number of respondents is based on the NERC Registry as of April 30, 2014. Public reporting burden for this proposed collection is estimated as:

MOD-032-1
[Data for power system modeling and analysis]
FERC-725L² | Number of respondents ³ | Number of responses per respondent | Average burden hours per response | Total annual burden hours | Total annual cost ⁴
| (1) | (2) | (3) | (1) × (2) × (3)
Develop data requirements and reporting procedures | 200 (PA, TP) | 1 | 8 | 1,600 | $96,000 one-time ($60/hr).
Data Submittal | 1,355 (BA, GO, LSE, PA, RP, TO, TP, TSP) | 1 | 8 | 10,840 | $650,400 ($60/hr).
Evidence Retention | 1,355 (BA, GO, LSE, PA, RP, TO, TP, TSP) | 1 | 1 | 1,355 | $43,360 ($32/hr).
Total |  |  |  | 13,795 | $789,760.

² In the May 14 public notice we listed the FERC Collection as FERC-725A. It is corrected to FERC-725L in this notice.

³ PA = Planning Authority, GO = Generator Owner, TP = Transmission Planner, BA = Balancing Authority, LSE = Load Serving Entity, RP = Resource Planner, TSP = Transmission Service Provider, RC = Reliability Coordinator, TOP = Transmission Operator.

⁴ The estimates for cost per hour (rounded to the nearest dollar) are derived as follows:

• $60/hour, the average salary plus benefits per engineer (from Bureau of Labor Statistics at http://bls.gov/oes/current/naics3_221000.htm).

• $32/hour, the salary plus benefits per information and record clerks (from Bureau of Labor Statistics at http://bls.gov/oes/current/naics3_221000.htm).

MOD-033-1
[Steady-state and dynamics system model validation]
FERC-725L | Number of respondents ³ | Number of responses per respondent | Average burden hours per response | Total annual burden hours | Total annual cost ⁴
| (1) | (2) | (3) | (1) × (2) × (3)
Develop data validation procedures | 75 (PA) | 1 | 8 | 600 | $36,000 one-time ($60/hr)
Data Submittal | 196 (RC, TOP) | 1 | 8 | 1,568 | $94,080 ($60/hr).
Evidence Retention | 200 (PA, RC, TOP) | 1 | 1 | 200 | $6,400 ($32/hr).
Total |  |  |  | 2,368 | $136,480.

Dated: August 18, 2014.
Kimberly D. Bose,
Secretary.

[FR Doc. 2014-20063 Filed 8-22-14; 8:45 am]

BILLING CODE 6717-01-P